DEPARTMENT OF ENERGY

Federal Energy Regulatory Commission

[Project No. 3819-012]

STS Hydropower, LLC; Sugarloaf Hydro, LLC; Notice of Application for Transfer of License and Soliciting Comments, Motions To Intervene, and Protests

On October 12, 2021, STS Hydropower, LLC (transferor) and Sugarloaf Hydro, LLC (transferee) filed jointly an application for the transfer of license of the Sugarloaf Hydroelectric Project No. 3819. The project is located at the Bureau of Reclamation's Mt. Elbert Conduit, Leadville City, in Lake County, Colorado.

The applicants seek Commission approval to transfer the license for the Sugarloaf Hydroelectric Project from the transferor to the transferee. The transferee will be required by the Commission to comply with all the requirements of the license as though it were the original licensee.

Applicants Contact: For transferor: Mr. Martin Karpenski, STS Hydropower, LLC, c/o Eagle Creek Renewable Energy, LLC, 65 Madison Avenue, Morristown, New Jersey 07960, Phone: (973) 998-8400, Email: marty.karpenski@eaglecreekre.com with a copy to Mr. Joshua E. Adrian, Thompson Coburn, LLP, 1909 K Street NW, Suite 600, Washington, DC 20006, Phone: (202) 585-6922, Email: jadrian@thompsoncoburn.com.

For transferee: Mr. Jason Kreuscher, Sugarloaf Hydro, LLC, c/o Renewable World Energies, LLC, 100 State Street, PO Box 264, Neshkoro, WI 45960, Phone: (855) 994-9376, Email: jason@rwehydro.com.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-3819-012. Comments emailed to Commission staff are not considered part of the Commission record. This notice is issued and published in accordance with 18 CFR 2.1.

Dated: November 5, 2021.
Kimberly D. Bose,
Secretary.

[FR Doc. 2021-24652 Filed 11-10-21; 8:45 am]

BILLING CODE 6717-01-P